DEPARTMENT OF AGRICULTURE

Rural Housing Service

Notice of Funds Availability (NOFA) for Section 514 Farm Labor Housing Loans and Section 516 Farm Labor Housing Grants for Off-Farm Housing for Fiscal Year 2006

Announcement Type: Initial Notice inviting applications from qualified applicants for Fiscal Year 2006.

Catalog of Federal Domestic Assistance Numbers (CFDA): 10.405 and 10.427.

SUMMARY: This NOFA announces the timeframe to submit applications for section 514 Farm Labor Housing (FLH) loans and section 516 FLH grants for the construction of new off-farm FLH units and related facilities for domestic farm laborers. The intended purpose of these loans and grants is to increase the number of available housing units for domestic farm laborers. Applications may also include requests for section 521 rental assistance (RA) and operating assistance for migrant units. This document describes the method used to distribute funds, the application process, and submission requirements.

DATES: The deadline for receipt of all applications in response to this NOFA is 5 p.m., local time for each Rural Development State Office on May 19, 2006. The application closing deadline is firm as to date and hour. The Agency will not consider any application that is received after the closing deadline. Applicants intending to mail applications must provide sufficient time to permit delivery on or before the closing deadline. Acceptance by a post office or private mailer does not constitute delivery. Facsimile (FAX), COD, and postage due applications will not be accepted.

FOR FURTHER INFORMATION CONTACT: Henry Searcy, Senior Loan Specialist, Multi-Family Housing Processing Division—STOP 0781 (Room 1263-S), U.S. Department of Agriculture—Rural Housing Service, 1400 Independence Ave. SW., Washington, DC 20250-0781, by telephone at (202) 720-1627 (This is not a toll free number.), or via email at Henry.Searcy@wdc.usda.gov.

SUPPLEMENTARY INFORMATION:

Paperwork Reduction Act

The reporting requirements contained in this Notice have been approved by the Office of Management and Budget under Control Number 0575-0045.

Overview

The FLH program is authorized by the Housing Act of 1949: Section 514 (42 U.S.C. 1484) for loans and section 516 (42 U.S.C. 1486) for grants. Tenant subsidies (RA) are available through section 521 (42 U.S.C. 1490a). Sections 514 and 516 provide Rural Housing Service (RHS) the authority to make loans and grants for financing off-farm housing to broad-based nonprofit organizations, nonprofit organizations of farmworkers, federally recognized Indian tribes and agencies or political subdivisions of State or local government. In addition, loans may be made to limited partnerships in which the general partner is a nonprofit entity.

Program Administration

I. Funding Opportunities Description

The Agency's FLH program is authorized by Title V of the Housing Act of 1949: Section 514 (42 U.S.C. 1484) for loans and section 516 (42 U.S.C. 1486) for grants. Tenant subsidies (RA and operating assistance) are available through section 521 (42 U.S.C. 1490a). Agency regulations for the Off-FLH program are published at 7 CFR part 3560, subpart L. Eligibility for section 516 off-farm FLH grants is limited to broad-based nonprofit organizations, nonprofit organizations of farmworkers, federally recognized Indian tribes, agencies or political subdivisions of State or local government, and public agencies (such as housing authorities). Eligibility for section 514 off-farm FLH loans includes each of the aforementioned entities and also includes limited partnerships which have a nonprofit entity as their sole general partner.

Housing that is constructed with these loans and grants must meet the Agency design and construction standards contained in 7 CFR part 1924, subparts A and C. Once constructed, off-farm FLH must be managed in accordance with the program's management regulation, 7 CFR part 3560. Tenant eligibility is limited to persons who meet the definition of a “domestic farm laborer”, a “retired domestic farm laborer,” or a “disabled domestic farm laborer,” as these terms are defined in 7 CFR 3560.11. A domestic farm labor is defined as “[a] person who, * * *, receives a substantial portion of his or her income from farm labor employment (not self-employed) in the United States, Puerto Rico, or the Virgin Islands and either is a citizen of the United States or resides in the United States, Puerto Rico, or the Virgin Islands after being legally admitted for permanent residence. This definition may include the immediate family members residing with such a person.” Farmworkers who are admitted to this country on a temporary basis under the Temporary Agricultural Workers (H-2A Visa) program are not eligible to occupy section 514/516 off-farm FLH.

The term “farm labor,” as used in the definition of domestic farm laborer, includes “[services in connection with cultivating the soil, raising or harvesting any agriculture or aquaculture commodity; or in catching, netting, handling, planting, drying, packing, grading, storing, or preserving in the unprocessed stage, * * *, any agriculture or aquaculture commodity; or delivering to storage, market, or a carrier for transportation to market or to processing any agricultural or aquacultural commodity in its unprocessed stage].” In addition, off-farm FLH must be operated on a non-profit basis and tenancy must be open to all qualified domestic farm laborers, regardless at which farm they work.

Operating assistance may be used in lieu of tenant-specific rental assistance in off-farm labor housing projects financed under section 514 or section 516(i) of the Housing Act of 1949 (U.S.C. 1486(i)) that serve migrant farmworkers. To be eligible for the operating assistance, projects must be off-farm FLH projects financed under section 514 or section 516 with units that are for migrant farmworkers (housing units for year-round farmworker households are ineligible) and must otherwise meet the requirements of 7 CFR 3560.574. “Migrants or migrant agricultural laborer” is defined in 7 CFR 3560.11 as “[a] person (and the family of such person) who receives a substantial portion of his or her income from farm labor employment and who establishes a residence in a location on a seasonal or temporary basis, in an attempt to receive farm labor employment at one or more locations away from their home base state, excluding day-haul agricultural workers whose travels are limited to work areas within one day of their residence.” Owners of eligible projects may choose tenant-specific RA or operating assistance, or a combination of both; however, any tenant or unit assisted with operating assistance may not also receive RA.

II. Award Information

Applications for Fiscal Year (FY) 2006 will only be accepted through the date and time listed in this NOFA.

Because RHS has the ability to adjust loan and grant levels, final loan and grant levels will fluctuate. The estimated funds available for FY 2006 for off-farm housing are: Section 514, $31,937,082 and section 516, $10,491,000.

Individual requests may not exceed $3 million (total loan and grant). If RA is available, it will be held in the National Office and will be awarded based on each project's financial structure and need. Section 516 off-farm FLH grants may not exceed 90 percent of the total development cost of the housing. Applications that require leveraged funding must have firm commitments in place for all of the leveraged funding within 1 year of the issuance of a “Notice of Preapplication Review Action,” Form AD-622. In order to be eligible for leveraged funding selection points, the commitment for leveraged funds must be submitted with the initial preapplication.

III. Eligibility Information

Applicant Eligibility

(1) To be eligible to receive a section 516 grant for off-farm FLH, the applicant must be a broad-based nonprofit organization, a nonprofit organization of farm workers, a federally recognized Indian tribe, an agency or political subdivision of a State or local government, or a public agency (such as a housing authority).

(2) To be eligible to receive a section 514 loan for off-farm FLH, the applicant must be a broad-based nonprofit organization, a nonprofit organization of farm workers, a federally recognized Indian tribe, an agency or political subdivision of a State or local government, a public agency (such as a housing authority), or a limited partnership which has a nonprofit entity as its sole general partner and:

(a) Be unable to provide the necessary housing from its own resources; and

(b) Except for State or local public agencies and Indian tribes, be unable to obtain similar credit elsewhere at rates that would allow for rents within the payment ability of eligible residents.

(3) Broad-based nonprofit organizations must have a membership that reflects a variety of interests in the area where the housing will be located.

Cost Sharing or Matching

Section 516 grants for off-farm FLH may not exceed the lesser of 90 percent of the total development cost or the amount provided in 7 CFR 3560.562(c)(2).

Other Administrative Requirements

The following policies and regulations apply to loans and grants made in response to this NOFA:

(1) The policies and regulations contained in 7 CFR part 1901, subpart E regarding equal opportunity requirements;

(2) The requirements of 7 CFR part 3015, and 7 CFR part 3016 or 7 CFR part 3019 (as applicable), which establish the uniform administrative requirements for grants and cooperative agreements to State and local governments and to non-profit organizations;

(3) The policies and regulations contained in 7 CFR part 1901, subpart F regarding historical and archaeological properties;

(4) The policies and regulations contained in 7 CFR part 1940, subpart G regarding environmental assessments;

(5) The policies and regulations contained in 7 CFR part 3560, subpart L regarding the loan and grant authorities of the off-farm FLH program;

(6) The policies and regulations contained in 7 CFR part 1924, subpart A regarding planning and construction;

(7) The policies and regulations contained in 7 CFR part 1924, subpart C regarding the planning and performing of site development work; and

(8) All other policies and regulations contained in 7 CFR part 3560 regarding the section 514/516 off-farm FLH program.

IV. Application and Submission Information

The application process will be in two phases: the initial preapplication (or proposal) and the submission of a formal application. Only those proposals that are selected for funding will be invited to submit formal applications. In the event that a proposal is selected for further processing and the applicant declines, the next highest ranked unfunded preapplication may be selected.

All preapplications for sections 514 and 516 funds must be filed with the appropriate Rural Development State Office and must meet the requirements of this Notice. Incomplete preapplications will not be reviewed and will be returned to the applicant. No preapplication will be accepted after 5 p.m., local time for each Rural Development State Office on May 19, 2006 unless date and time is extended by another Notice published in the Federal Register.

If a preapplication is accepted for further processing, the applicant will be expected to submit a complete, formal application prior to the obligation of Agency funds.

Preapplication Requirements

The preapplication must contain the following:

(1) A summary page listing the following items. This information should be double-spaced between items and not be in narrative form.

(a) Applicant's name.

(b) Applicant's Taxpayer Identification Number.

(c) Applicant's address.

(d) Applicant's telephone number.

(e) Name of applicant's contact person, telephone number, and address.

(f) Amount of loan and grant requested.

(g) For grants, the applicant's Dun and Bradstreet Data Universal Numbering System (DUNS) number. As required by the Office of Management and Budget (OMB), all grant applicants must provide a DUNS number when applying for Federal grants, on or after October 1, 2003. Organizations can receive a DUNS number at no cost by calling the dedicated toll-free DUNS Number request line at 1-866-705-5711. Additional information concerning this requirement is provided in a policy directive issued by OMB and published in the Federal Register on June 27, 2003 (68 FR 38402-38405).

(2) A narrative describing the applicant's ability to meet the eligibility requirements stated in this Notice.

(3) Application for Federal Assistance (Standard Form 424) which can be found online at http://www.whitehouse.gov/omb/grants/sf424.pdf.

(4) A current, dated, and signed financial statement showing assets and liabilities with information on the repayment schedule and status of all debts.

(5) Evidence that the applicant is unable to obtain credit from other sources. Letters from credit institutions who normally provide real estate loans in the area should be obtained and these letters should indicate the rates and terms upon which a loan might be provided. (Note: Not required from State or local public agencies or Indian tribes.)

(6) A statement concerning the need for a labor housing grant. The statement should include preliminary estimates of the rents required with and without a grant.

(7) A statement of the applicant's experience in operating labor housing or other rental housing. If the applicant's experience is limited, additional information should be provided to indicate how the applicant plans to compensate for this limited experience (i.e., obtaining assistance and advice of a management firm, non-profit group, public agency, or other organization which is experienced in rental management and will be available on a continuous basis).

(8) A brief statement explaining the applicant's proposed method of operation and management (i.e., on-site manager, contracting for management services, etc.). As stated in this Notice:

(a) The housing must be managed in accordance with the program's management regulation, 7 CFR part 3560 and

(b) Tenancy is limited to “domestic farm laborers,” “retired dometic farm laborers,” and “disabled domestic farm laborers” as defined in this Notice.

(9) Applicants must provide:

(a) A copy of, or an accurate citation to, the special provisions of State law under which they are organized, a copy of the applicant's charter, their Articles of Incorporation, and their By-laws;

(b) The names, occupations, and addresses of the applicant's members, directors, and officers; and

(c) If a member or subsidiary of another organization, the organization's name, address, and nature of business.

(10) A preliminary survey to identify the supply and demand for labor housing in the market area. The market area must be clearly identified and may include only the area from which tenants can reasonably be drawn for the proposed project.

Documentation must be provided to justify a need within the intended market area for housing for “domestic farm laborers”, as defined in this Notice. The preliminary survey should address or include the following items:

(a) The annual income level of farmworker families in the area and the probable income of the farm workers who are apt to occupy the proposed housing;

(b) A realistic estimate of the number of farm workers who are home-based in the area and the number of farm workers who normally migrate into the area. Information on migratory workers should indicate the average number of months the migrants reside in the area and an indication of what type of family groups are represented by the migrants (i.e., single individuals as opposed to families);

(c) General information concerning the type of labor intensive crops grown in the area and prospects for continued demand for farm laborers (i.e., prospects for mechanization, etc.);

(d) The overall occupancy rate for comparable rental units in the area and the rents charged and customary rental practices for these units (i.e., will they rent to large families, do they require annual leases, etc.);

(e) The number, condition, adequacy, rental rates and ownership of units currently used or available to farm workers;

(f) A description of the units proposed, including the number, type, size, rental rates, amenities such as carpets and drapes, related facilities such as a laundry room or community room and other facilities providing supportive services in connection with the housing and the needs of the prospective tenants such as a health clinic or day care facility, estimated development timeline, estimated total development cost, and applicant contribution; and

(g) The applicant must also identify all other sources of funds, including the dollar amount, source, and commitment status. (Note: A section 516 grant may not exceed 90 percent of the total development cost of the housing.)

(11) A completed Form RD 1940-20, “Request for Environmental Information,” and a description of anticipated environmental issues or concerns. The form can be found online at http://www.rurdev.usda.gov/regs/forms/1940-20.pdf.

(12) A prepared HUD 935.2, “Affirmative Fair Housing Marketing Plan.” The plan will reflect that occupancy is open to all qualified “domestic farm laborers,” regardless of which farming operation they work at and that they will not discriminate on the basis of race, color, sex, age, disability, marital or familial status or National origin in regard to the occupancy or use of the units. The form can be found online at http://www.hudclips.org/sub_nonhud/html/pdfforms/935-2.pdf.

(13) Evidence of site control such as an option or sales contract. In addition, a map and description of the proposed site, including the availability of water, sewer, and utilities and the proximity to community facilities and services such as shopping, schools, transportation, doctors, dentists, and hospitals.

(14) Preliminary plans and specifications, including plot plans, building layouts, and type of construction and materials. The housing must meet the Agency's design and construction standards contained in 7 CFR part 1924, subparts A and C and must also meet all applicable Federal, State, and local accessibility standards.

(15) A Supportive Services Plan describing services that will be provided on-site or made available to tenants through cooperative agreements with service providers in the community, such as a health clinic or day care facility. Off-site services must be accessible and affordable to farm workers and their families. Letters of intent from service providers are acceptable documentation at the preapplication stage.

(16) A proposed operating budget utilizing Form RD 3560-7, “Multiple Family Housing Project Budget/Utility Allowance.” The form can be found online at http://www.rurdev.usda.gov/regs/forms/3560-07.pdf.

(17) An estimate of development cost utilizing Form RD 1924-13, “Estimate and Certificate of Actual Cost.” The form can be found online at http://www.rurdev.usda.gov/regs/forms/1924-13.pdf.

(18) Form RD 3560-30, “Certification of No Identity of Interest (IOI)” and Form RD 3560-31, “Identity of Interest Disclosure/Qualification Certification.” These forms can be found online at http://www.rurdev.usda.gov/regs/formstoc.html.

(19) Form HUD 2530, “Previous Participation Certification.” The form can be found online at http://www.hudclips.org/sub_nonhud/html/pdfforms/2530.pdf.

(20) If requesting RA or Operating Assistance, Form RD 3560-25, “Initial Request for Rental Assistance or Operating Assistance.” The form can be found online at http://www.rurdev.usda.gov/regs/forms/3560-25.pdf.

(21) A Sources and Uses Statement showing all sources of funding included in the proposed project. The terms and schedules of all sources included in the project should be included in the Sources and Uses Statement.

(22) A separate one-page information sheet listing each of the “Application Scoring Criteria” contained in this Notice, followed by the page numbers of all relevant material and documentation that is contained in the proposal that supports the criteria.

(23) Applicants are encouraged, but not required, to include a checklist of all of the application requirements and to have their application indexed and tabbed to facilitate the review process.

Funding Restrictions

Individual requests may not exceed $3 million (total loan and grant). Grants may not exceed 90 percent of the total development cost of the housing.

Intergovernmental Review

The construction of new section 516 off-farm FLH is subject to the Intergovernmental Review provisions of 7 CFR part 3015, subpart V which requires intergovernmental consultation with State and local officials.

Submission Address

Applicants wishing to apply for assistance must contact the Rural Development State Office serving the place in which they desire to submit an application for off-farm labor housing to receive further information and copies of the application package. Rural Development will date and time stamp incoming applications to evidence timely receipt, and, upon request, will provide the applicant with a written acknowledgment of receipt. A listing of Rural Development State Offices, their addresses, telephone numbers, and person to contact follows:

Note: Telephone numbers listed are not toll-free.

Alabama State Office, Suite 601, Sterling Center 4121 Carmichael Road, Montgomery, AL 36106-3683, (334) 279-3455, TDD (334) 279-3495, James B. Harris.

Alaska State Office, 800 West Evergreen, Suite 201, Palmer, AK 99645, (907) 761-7740, TDD (907) 761-8905, Debbie Andrys.

Arizona State Office, Phoenix Courthouse and Federal Building,

230 North First Ave., Suite 206, Phoenix, AZ 85003-1706, (602) 280-8706, TDD (602) 280-8770, Johnna Vargas.

Arkansas State Office, 700 W. Capitol Ave., Rm. 3416, Little Rock, AR 72201-3225, (501) 301-3250, TDD (501) 301-3063, Clinton King.

California State Office, 430 G Street, #4169, Davis, CA 95616-4169, (530) 792-5830, TDD (530) 792-5848, Stephen Nnodim.

Colorado State Office, 655 Parfet Street, Room El00, Lakewood, CO 80215, (720) 544-2923, TDD (800)659-2656, Mary Summerfield.

Connecticut

Served by Massachusetts State Office.

Delaware State Office, 1221 College Park Drive, Suite 200, Dover, DE 19904, (302) 857-3615, TDD (302) 857-3585, Pat Baker.

Florida & Virgin Islands State Office, 4440 NW. 25th Place, Gainesville, FL 32606-6563, (352) 338-3465, TDD (352) 338-3499, Elizabeth M. Whitaker.

Georgia State Office, Stephens Federal Building, 355 E. Hancock Avenue, Athens, GA 30601-2768, (706) 546-2164, TDD (706) 546-2034, Wayne Rogers.

Hawaii State Office, (Services all Hawaii, American Samoa, Guam and Western Pacific), Room 311, Federal Building, 154 Waianuenue Avenue, Hilo, HI 96720, (808) 933-8305, TDD (808) 933-8321, Jack Mahan.

Illinois State Office, 2118 W. Park Court, Suite A, Champaign, IL 61821-2986, (217) 403-6222, TDD (217) 403-6240, Barry L. Ramsey.

Indiana State Office, 5975 Lakeside Boulevard, Indianapolis, IN 46278, (317) 290-3100 (ext. 423), TDD (317) 290-3343, John Young.

Iowa State Office, 210 Walnut Street Room 873, DesMoines, IA 50309, (515) 284-4685, TDD (515) 284-4858, Julie Sleeper.

Kansas State Office, 1303 SW., First American Place, Suite 100, Topeka, KS 66604-4040, (785) 271-2721, TDD (785) 271-2767, Virginia M. Hammersmith.

Kentucky State Office, 771 Corporate Drive, Suite 200, Lexington, KY 40503, (859) 224-7325, TDD (859) 224-7422, Paul Higgins.

Louisiana State Office, 3727 Government Street, Alexandria, LA 71302, (318) 473-7962, TDD (318) 473-7655, Yvonne R. Emerson.

Maine State Office, 967 Illinois Ave., Suite 4, PO Box 405, Bangor, ME 04402-0405, (207) 990-9110, TDD (207) 942-7331, Bob Nadeau.

Maryland Served by Delaware State Office.

Massachusetts State Office, 451 West Street, Amherst, MA 01002, (413) 253-4315, TDD (413) 253-4590, Paul Geoffroy.

Michigan State Office, 3001 Coolidge Road, Suite 200, East Lansing, MI 48823, (517) 324-5192, TDD (517) 337-6795, Ghulam R. Sumbal.

Minnesota State Office, 375 Jackson Street Building, Suite 410, St. Paul, MN 55101, (651) 602-7782, TDD (651) 602-7826, Peter Lundquist.

Mississippi State Office, Federal Building, Suite 831, 100 W. Capitol Street, Jackson, MS 39269, (601) 965-4325, TDD (601) 965-5850, Darnella Smith-Murray.

Missouri State Office, 601 Business Loop 70 West, Parkade Center, Suite 235, Columbia, MO 65203, (573) 876-9305, TDD (573) 876-9480, Colleen James.

Montana State Office, 900 Technology Blvd., Suite B, Bozeman, MT 59715, (406) 585-2565, TDD (406) 585-2562, Deborah Chorlton.

Nebraska State Office, Federal Building, Room 152, 100 Centennial Mall N, Lincoln, NE 68508, (402) 437-5594, TDD (402) 437-5093, Phil Willnerd.

Nevada State Office, 1390 South Curry Street, Carson City, NV 89703-9910, (775) 887-1222 (ext. 25), TDD (775) 885-0633, Angilla Denton.

New Hampshire State Office, Concord Center, Suite 218, Box 317, 10 Ferry Street, Concord, NH 03301-5004, (603) 223-6046, TDD (603) 229-0536, Jim Fowler.

New Jersey State Office, 5th Floor North, Suite 500, 8000 Midlantic Dr., Mt. Laurel, NJ 08054, (856) 787-7740, TDD (856)787-7784, George Hyatt, Jr.

New Mexico State Office, 6200 Jefferson St., NE., Room 255, Albuquerque, NM 87109, (505) 761-4944, TDD (505) 761-4938, Carmen N. Lopez.

New York State Office, The Galleries of Syracuse, 441 S. Salina Street, Suite 357, Syracuse, NY 13202, (315) 477-6419, TDD (315) 477-6447, George N. Von Pless.

North Carolina State Office, 4405 Bland Road, Suite 2120, Raleigh, NC 271209, (919) 873-2066, TDD (919) 873-2003, Bill Hobbs.

North Dakota State Office, Federal Building, Room 208, 220 East Rosser, P.O. Box 1737, Bismarck, ND 58502, (701) 530-2049, TDD (701) 530-2113, Kathy Lake.

Ohio State Office, Federal Building, Room 507, 200 North High Street, Columbus, OH 43215-2477, (614) 255-2418, TDD (614) 255-2554, Melodie Taylor-Ward.

Oklahoma State Office, 100 USDA, Suite 108, Stillwater, OK 74074-2654, (405) 742-1070, TDD (405) 742-1007, Ivan Graves.

Oregon State Office, 101 SW., Main, Suite 1410, Portland, OR 97204-3222, (503) 414-3325, TDD (503) 414-3387, Margo Donelin.

Pennsylvania State Office, One Credit Union Place, Suite 330, Harrisburg, PA 17110-2996, (717) 237-2282, TDD (717) 237-2261, Martha E. Hanson.

Puerto Rico State Office, IBM Building, 654 Munoz Rivera Ave., Suite 601, San Juan, PR 00918, (787) 766-5095 (ext. 254), TDD 1-800-274-1572, Lourdes Colon.

Rhode Island Served by Massachusetts State Office.

South Carolina State Office, Strom Thurmond Federal Building 1835 Assembly Street, Room 1007, Columbia, SC 29201, (803) 253-3432, TDD (803) 765-5697, Larry D. Floyd.

South Dakota State Office, Federal Building, Room 210, 200 Fourth Street, SW., Huron, SD 57350, (605) 352-1132, TDD (605) 352-1147, Roger Hazuka or Pam Reilly.

Tennessee State Office, 3322 West End Avenue, Suite 300, Nashville, TN 37203-1084, (615) 783-1375, TDD (615) 783-1397, Donald Harris.

Texas State Office, 101 South Main St., Suite 102, Temple, TX 76501, (254) 742-9758, TDD (254) 742-9712, Julie Hayes.

Utah State Office, Wallace F. Bennett Federal Building, 125 S. State Street, Room 4311, Salt Lake City, UT 84138, (801) 524-4325,TDD (801) 524-3309, Janice Kocher.

Vermont State Office, City Center, 3rd Floor, 89 Main Street, Montpelier, VT 05602, (802) 828-6021,TDD (802) 223-6365, Heidi Setien.

Virgin Islands, Served by Florida State Office.

Virginia State Office, Culpeper Building, Suite 238, 1606 Santa Rosa Road, Richmond, VA 23229, (804) 287-1596,TDD (804) 287-1753, CJ Michels.

Washington State Office, 1835 Black Lake Blvd., Suite B, Olympia, WA 98512, (360) 704-7730,TDD (360) 704-7760, Robert Lund.

Western Pacific Territories, Served by Hawaii State Office.West Virginia State Office,75 High Street, Room 320, Morgantown, WV 26505-7500, (304) 284-4872,TDD (304) 284-4836, David Cain.

Wisconsin State Office, 4949 Kirschling Court, Stevens Point, WI 54481, (715) 345-7608 (ext. 7145),TDD (715) 345-7614, Peter Kohnen.

Wyoming State Office, P.O. Box 11005, Casper, WY 82602-6733, (307) 233-6715,TDD (307) 233-6733, Jack Hyde.

V. Application Review Information

All applications for sections 514 and 516 funds must be filed with the appropriate Rural Development State Office and must meet the requirements of this Notice. Incomplete applications will not be reviewed and will be returned to the applicant. No application will be accepted after 5 p.m., local time for each Rural Development State Office on May 19, 2006 unless date and time is extended by another Notice published in the Federal Register. The Rural Development State Office will base its determination of completeness of the application and the eligibility of each applicant on the information provided in the application.

Selection Criteria

Section 514 loan funds and section 516 grant funds will be distributed to States based on a national competition, as follows:

(1) States will accept, review, and score requests in accordance with the Notice. The scoring factors are:

(a) The presence and extent of leveraged assistance, including donated land, for the units that will serve program-eligible tenants, calculated as a percentage of the RHS total development cost (TDC). RHS TDC excludes non-RHS eligible costs such as a developer's fee. Leveraged assistance includes, but is not limited to, funds for hard construction costs, section 8 or other non-RHS tenant subsidies, and state or Federal funds. A minimum of ten percent leveraged assistance is required to earn points; however, if the total percentage of leveraged assistance is less than ten percent and the proposal includes donated land, two points will be awarded for the donated land. To count as leveraged funds for purposes of the selection criteria, a commitment of funds must be provided with the preapplication. Points will be awarded in accordance with the following table. (0 to 20 points)

Percentage | Points
75 or more | 20
60-74 | 18
50-59 | 16
40-49 | 12
30-39 | 10
20-29 | 8
10-19 | 5
0-9 | 0

Donated land in proposals with less than ten percent total leveraged assistance: 2.

(b) Percent of units for seasonal, temporary, migrant housing. (5 points for up to and including 50 percent of the units; 10 points for 51 percent or more.)

(c) The selection criteria includes one optional criteria set by the National Office. The National Office initiative will be used in the selection criteria as follows: Up to 10 points will be awarded based on the presence of and extent to which a tenant services plan exists that clearly outlines services that will be provided to the residents of the proposed project. These services may include, but are not limited to, transportation related services, on-site English as a Second Language (ESL) classes, move-in funds, emergency assistance funds, homeownership counseling, food pantries, after school tutoring, and computer learning centers. Two points will be awarded for each resident service included in the tenant services plan up to a maximum of 10 points. Plans must detail how the services are to be administered, who will administer them, and where they will be administered. All tenant service plans must include letters of intent that clearly state the service that will be provided at the project for the benefit of the residents from any party administering each service, including the applicant. (0 to 10 points)

(2) States will conduct the preliminary eligibility review, score the applications, and forward them to the National Office.

(3) The National Office will rank all requests nationwide and distribute funds to States in rank order, within funding and RA limits. A lottery in accordance with 7 CFR 3560.56(c)(2) will be used for applications with tied point scores when they all cannot be funded. If insufficient funds or RA remain for the next ranked proposal, that applicant will be given a chance to modify their application to bring it within remaining funding levels. This will be repeated for each next ranked eligible proposal until an award can be made or the list is exhausted.

Dated: March 8, 2006.
Russell T. Davis,
Administrator, Rural Housing Service.

[FR Doc. 06-2449 Filed 3-17-06; 8:45 am]

BILLING CODE 3410-XV-P